DEPARTMENT OF COMMERCE

International Trade Administration

[A-560-811; A-455-803; A-823-809]

Notice of Final Determinations of Sales at Less Than Fair Value: Steel Concrete Reinforcing Bars from Indonesia, Poland and Ukraine

AGENCY: Import Administration, International Trade Administration, Department of Commerce.

EFFECTIVE DATE: April 11, 2001.

FOR FURTHER INFORMATION CONTACT: Maisha Cryor at (202) 482-5831 (for Indonesia), Valerie Ellis at (202) 482-2336 (for Poland), or Keir Whitson at (202) 482-1777 (for Ukraine), AD/CVD Enforcement, Group II, Import Administration, International Trade Administration, U.S. Department of Commerce, 14th Street and Constitution Avenue, NW., Washington, DC 20230.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR part 351 (2000).

Background

On January 30, 2001, the Department published the preliminary determinations of the antidumping investigations of rebar from Indonesia, Poland and Ukraine. See Notice of Preliminary Determinations of Sales at Less Than Fair Value: Steel Concrete Reinforcing Bars from Poland, Indonesia and Ukraine, 66 FR 8343 (January 30, 2001) (Preliminary Determinations). We gave interested parties an opportunity to comment on our preliminary determinations. On March 6, 2001, the petitioner filed a case brief in the investigation involving Ukraine. No rebuttal brief was submitted on behalf of Ukraine, nor were case briefs or rebuttal briefs filed in cases involving Indonesia and Poland. The Department received no requests for a public hearing in any of the three cases.

Section 734(m) of the Act states that in the case of regional industry investigations, the administering authority shall offer exporters the opportunity to enter into suspension agreements. Proposed and finalized agreements in these cases must comport with the requirements set forth under section 734 of the Act for the suspension of antidumping duty investigations. All exporters participating in the instant investigations were aware of their opportunity to propose suspension agreements. However, the Department did not accept any suspension agreements in these proceedings. See Memorandum from Holly A. Kuga to The File, dated April 2, 2001.

The Department has conducted these investigations in accordance with section 751 of the Act.

Scope of Investigations

For purposes of these investigations, the product covered is all steel concrete reinforcing bars (rebar) sold in straight lengths, currently classifiable in the Harmonized Tariff Schedule of the United States (HTSUS) under item number 7214.20.00 or any other tariff item number. Specifically excluded are plain rounds (i.e., non-deformed or smooth bars) and rebar that has been further processed through bending or coating. HTSUS subheadings are provided for convenience and Customs purposes. The written description of the scope of this proceeding is dispositive.

Analysis of Comments Received

The only issue raised by any party involved the Ukraine investigation and is addressed in the “Issues and Decision Memorandum” (Decision Memorandum), dated April 2, 2001, which is hereby adopted by this notice. A list of the issues which parties have raised and to which we have responded, all of which are in the Decision Memorandum, is attached to this notice as an Appendix. Parties can find a complete discussion of the issue raised in these investigations and the corresponding recommendations in this public memorandum which is on file in the Central Records Unit, room B-099 (“B-099”) of the main Department building. In addition, a complete version of the Decision Memorandum can be accessed directly on the Web at http://ia.ita.doc.gov. The paper copy and electronic version of the Decision Memorandum are identical in content.

Use of Facts Available

In the preliminary determinations of these investigations, the Department preliminarily determined that the application of total adverse facts available was appropriate with respect to each mandatory respondent from Indonesia, Poland, and Ukraine. Specifically, the Department assigned to the mandatory respondents from Indonesia, Poland and Ukraine the highest margins alleged in the amendments to the respective petitions. The interested parties did not object to the use of adverse facts available for the mandatory respondents in the investigations from Indonesia and Poland, or to the Department's choice of facts available, and no new facts were submitted which would cause the Department to revisit this decision. Therefore, for the reasons set out in the Preliminary Determinations, 66 FR 8343, we have continued to use the highest margins alleged by the petitioner for the mandatory respondents from Indonesia and Poland for the purposes of this final determination notice. In addition, the Department has left unchanged from the preliminary determinations the “All Others Rate” in the investigations from Indonesia and Poland.

We received comments from the petitioner regarding the margin assigned in the Ukraine investigation. For the reasons set out in the Decision Memorandum, we have continued to use the highest margin alleged by the petitioner for the rebar produced/exported by Ukrainian firms.

Critical Circumstances

In the petition, filed on June 28, 2000, the petitioner alleged that there is a reasonable basis to believe or suspect that critical circumstances exist with respect to imports of rebar from Poland. On August 30, 2000, the Department preliminarily determined that critical circumstances exist with respect to exports of rebar from Poland. See Memorandum to Holly A. Kuga Re: Preliminary Affirmative Determinations of Critical Circumstances (August 30, 2000); see also Preliminary Determinations of Critical Circumstances: Steel Concrete Reinforcing Bars From the People's Republic of China and Poland, 65 FR 54228 (September 7, 2000).

In a letter filed on August 22, 2000, the petitioner alleged that there is a reasonable basis to believe or suspect that critical circumstances exist with respect to imports of rebar from Ukraine. On November 27, 2000, the Department preliminarily determined that critical circumstances exist for imports of rebar from Ukraine. See Preliminary Determinations of Critical Circumstances: Steel Concrete Reinforcing Bars From Ukraine and Moldova, 65 FR 70696 (November 27, 2000).

No comments were filed since the preliminary determinations on the issue of critical circumstances by any party in the Poland or Ukraine proceedings, and there were no new facts discovered by the Department. Therefore, for the reasons specified in our preliminary determinations, we continue to find that critical circumstances exist in the cases of Poland and Ukraine.

Final Determinations of Investigations

We determine that the following percentage weighted-average margins exist for the periods April 1, 1999, through March 31, 2000 (for Indonesia and Poland), and October 1, 1999 through March 31, 2000 (for Ukraine):

Manufacturer/exporter | Margin (percent)
Poland:
Stalexport | 52.07
All others | 47.13
Indonesia:
Sakti | 71.01
Bhirma | 71.01
Krakatau | 71.01
Perdana | 71.01
Hanil | 71.01
Pulogadung | 71.01
Tunggal | 71.01
Master Steel | 71.01
All others | 60.46
Ukraine:
Ukraine-Wide Rate | 41.69

Suspension of Liquidation

Pursuant to section 735(c)(1)(B) of the Act, we are instructing the U.S. Customs Service to continue to suspend liquidation of all entries of rebar from Indonesia that are entered, or withdrawn from warehouse, for consumption on or after January 30, 2001 (the date of publication of the Preliminary Determinations in the Federal Register). For Poland and Ukraine, in accordance with section 735(c)(1)(B) of the Act, we are directing the Customs Service to continue to suspend liquidation of all entries of rebar that are entered, or withdrawn from warehouse, for consumption on or after November 1, 2000 (90 days prior to the date of publication of the Preliminary Determinations in the Federal Register). The Customs Service shall continue to require a cash deposit or the posting of a bond equal to the estimated amount by which the normal value exceeds the U.S. price as shown above. The suspension of liquidation instructions will remain in effect until further notice.

ITC Notification

In accordance with section 735(d) of the Act, we have notified the International Trade Commission (ITC) of our determinations. As our final determinations are affirmative, the ITC will determine, within 45 days, whether these imports are causing material injury, or threat of material injury, to an industry in the United States. If the ITC determines that material injury, or threat of injury does not exist, the proceeding will be terminated and all securities posted will be refunded or canceled. If the ITC determines that such injury does exist, the Department will issue an antidumping order directing Customs officials to assess antidumping duties on all imports of the subject merchandise entered or withdrawn from warehouse for consumption on or after the effective date of the suspension of liquidation.

These determinations are issued and published in accordance with sections 735(d) and 777(i)(1) of the Act.

Dated: April 2, 2001.
Timothy J. Hauser,
Acting Under Secretary for International Trade.

Appendix—Issues in Decision Memorandum

Comment and Response

1. Basis for Facts Available Margin

[FR Doc. 01-8935 Filed 4-10-01; 8:45 am]

BILLING CODE 3510-DS-P